NATIONAL SCIENCE FOUNDATION

Agency Information Collection Activities: Comment Request

AGENCY: National Science Foundation.

ACTION: Submission for OMB review; comment request.

SUMMARY: The National Science Foundation (NSF) has submitted the following information collection requirements to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725—17th Street, NW., Room 10235, Washington, DC 20503, and to Suzanne H. Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION: Title: Survey of Earned Doctorates.

OMB Control Number: 3145-0019.

Summary of Collection: The Survey of Earned Doctorates has been conducted continuously since 1958 and is jointly sponsored by six Federal agencies in order to avoid duplication. It is an accurate, timely source of information on our Nation's most precious resource—highly educated individuals. Data are obtained via paper questionnaire or Web survey from each person earning a research doctorate at the time they receive the degree. Graduate Schools help distribute the Survey of Earned Doctorates to their graduating doctorate recipients. Data are collected on the doctorate recipient's field of specialty, educational background, sources of support in graduate school, debt level, postgraduation plans for employment, and demographic characteristics.

The survey will be collected in conformance with the National Science Foundation Act of 1950, as amended, and the Privacy Act of 1974. Responses from individuals are voluntary. NSF will ensure that all individually identifiable information collected will be kept strictly confidential and will be used for research or statistical purposes, analyzing data, and preparing scientific reports and articles.

The first Federal Register notice for this survey was 73 FR 74757, published December 9, 2008, and one comment was received.

Comment: On December 9, 2008 we published in the Federal Register (73 FR 74757) a 60-day notice of our intent to request reinstatement of this information collection authority from OMB. In that notice, we solicited public comments for 60 days ending February 9, 2009. One comment was received from the public notice. The comment came from B. Sachau of Floram Park, NJ, via e-mail on December 9, 2008. Ms. Sachau objected to the information collection. Ms. Sachau had no specific suggestions for altering the data collection plans other than to discontinue them entirely.

Response: We responded to Ms. Sachau on December 17, 2008 describing the program, the frequency and the cost issues raised by Ms. Sachau. NSF believes that because the comment does not pertain to the collection of information on the required forms for which NSF is seeking OMB approval, NSF is proceeding with the clearance request.

Need and Use of the Information: The Federal government, universities, researchers, and others use the information extensively. The National Science Foundation, as the lead agency, publishes statistics from the survey in several reports, but primarily in the annual publication series, “Science and Engineering Doctorates” and the Interagency Report, “Doctorate Recipients from U.S. Universities: Summary Report.” These reports are available on the Web. NSF uses this information to prepare Congressionally mandated reports such as Science and Engineering Indicators and Women, Minorities and Persons with Disabilities in Science and Engineering.

Description of Respondents: Individuals.

Number of Respondents: 49,000.

Frequency of Responses: Annually.

Total Burden Hours: 27,738.

Dated: February 9, 2009.
Suzanne H. Plimpton,
Reports Clearance Officer, National Science Foundation.

[FR Doc. E9-2995 Filed 2-11-09; 8:45 am]

BILLING CODE 7555-01-P